DEPARTMENT OF TRANSPORTATION

Federal Aviation Administration

14 CFR Part 39

[Docket No. FAA-2011-0453; Directorate Identifier 2008-SW-16-AD]

RIN 2120-AA64

Airworthiness Directives; Eurocopter Deutschland Model EC135 Helicopters

AGENCY: Federal Aviation Administration (FAA), DOT.

ACTION: Notice of proposed rulemaking (NPRM).

SUMMARY: We propose to adopt a new airworthiness directive (AD) for Eurocopter Deutschland (ECD) Model EC135 helicopters. This proposed AD results from a mandatory continuing airworthiness information (MCAI) AD issued by the aviation authority of the Federal Republic of Germany, with which we have a bilateral agreement, to identify and correct an unsafe condition. The MCAI AD states that in the past, the FADEC FAIL caution light illuminated on a few EC135 T1 helicopters. They state that this was caused by a discrepancy in the parameters which were generated within the fuel main metering unit and transmitted to the FADEC. This discrepancy led to the display of the FADEC FAIL caution light and “freezing” of the fuel main metering valve at its position resulting in loss of the automatic engine control in the affected system. With the EASA AD, a synchronization procedure for pilots, which was already used in the past, is being re-introduced, which prevents the parameter discrepancy arising and thus sustains the automatic engine control.

The proposed AD actions are intended to prevent failure of the FADEC to automatically meter fuel, indicated by a FADEC FAIL cockpit caution light, and subsequent loss of control of the helicopter.

DATES: We must receive comments on this proposed AD by June 13, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from American Eurocopter Corporation, 2701 Forum Drive, Grand Prairie, Texas 75053-4005, telephone (972) 641-3460, fax (972) 641-3527.

Examining the AD Docket: You may examine the AD docket on the Internet at http://www.regulations.gov, or in person at the Docket Operations office between 9 a.m. and 5 p.m., Monday through Friday, except Federal holidays. The AD docket contains this proposed AD, the economic evaluation, any comments received, and other information. The street address for the Docket Operations office (telephone (800) 647-5527) is in the ADDRESSES section. Comments will be available in the AD docket shortly after receipt.

FOR FURTHER INFORMATION CONTACT: Eric Haight, Aviation Safety Engineer, FAA, Rotorcraft Directorate, Regulations and Guidance Group, Fort Worth, Texas 76137, telephone (817) 222-5204, fax (817) 222-5961.

SUPPLEMENTARY INFORMATION:

Comments Invited

We invite you to send any written relevant data, views, or arguments about this proposed AD. Send your comments to an address listed under the ADDRESSES section. Include “Docket No. FAA-2011-0453; Directorate Identifier 2008-SW-16-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Luftfahrt-Bundesamt, which is the aviation authority for the Federal Republic of Germany, has issued AD No. 2002-333, dated September 16, 2002, to correct an unsafe condition for this German-certificated product. The MCAI AD states that in the past, the FADEC FAIL caution light illuminated on a few EC135 T1 helicopters. They state that this was caused by a discrepancy in the parameters which were generated within the fuel main metering unit and transmitted to the FADEC. This discrepancy led to the display of the FADEC FAIL caution light and “freezing” of the fuel main metering valve at its position resulting in loss of the automatic engine control in the affected system. Despite measures undertaken by Turbomeca to eliminate this problem (software improvements TU19C, TU23C and TU45C), additional FADEC FAIL cases have occurred on EC 135 T1 helicopters for which no explanation has been found. Therefore, a discrepancy in the parameters similar to those in the past cannot be ruled out. With this proposed AD, a synchronization procedure for pilots, which was already used in the past, is being re-introduced, which prevents the parameter discrepancy arising and thus sustains the automatic engine control. To date, there is no terminating action to this required manual pilot synchronization procedure.

You may obtain further information by examining the MCAI AD and the service information in the AD docket.

Related Service Information

ECD has issued Alert Service Bulletin No. EC135-71A-024, dated August 6, 2002 (ASB). The ASB contains copies of special information to be inserted into the Rotorcraft Flight Manual (RFM) for synchronizing fuel control components for sustaining automatic engine control. The ASB specifies making copies of the RFM pages contained in the ASB, cutting them out, and filing them in the RFM. The actions described in the MCAI AD are intended to correct the same unsafe condition as that identified in this service information.

FAA's Determination and Requirements of This Proposed AD

This model helicopter has been approved by the aviation authority of the Federal Republic of Germany and is approved for operation in the United States. Pursuant to our bilateral agreement with that State of Design Authority, we have been notified of the unsafe condition described in the MCAI AD and service information. We are proposing this AD because we evaluated all pertinent information and determined an unsafe condition exists and is likely to exist or develop on other products of the same type design.

Differences Between This AD and the MCAI AD

We use a 50-hour TIS compliance time rather than before further flight as used in the MCAI AD. Also, the MCAI AD states to follow the ASB and insert pages into the RFM. We did not follow the ASB, which requires the RFM information to be filed in the Section 4, Normal Procedures, of the RFM. To make compliance with the information mandatory, we are requiring that it be inserted into the Section 2, Limitations Section of the RFM.

Costs of Compliance

We estimate that this proposed AD would affect about 20 helicopters of U.S. registry. We also estimate that it would take about ½ work-hour to copy and insert the synchronization procedure into the RFM. The average labor rate is $85 per hour. We estimate the cost of the proposed AD on U.S. operators to be $850.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Eurocopter Deutschland: Docket No. FAA-2011-0453; Directorate Identifier 2008-SW-16-AD.

Comments Due Date

(a) We must receive comments by June 13, 2011.

Other Affected ADs

(b) None.

Applicability

(c) This AD applies to Model EC135 helicopters with Turbomeca Arrius 2B or 2B1 engines installed, certificated in any category.

Reason

(d) The mandatory continuing airworthiness information (MCAI) AD states that in the past, the FADEC FAIL caution light illuminated on a few EC135 T1 helicopters. They state that this was caused by a discrepancy in the parameters which were generated within the fuel main metering unit and transmitted to the FADEC. This discrepancy led to the display of the FADEC FAIL caution light and “freezing” of the fuel main metering valve at its position resulting in loss of the automatic engine control in the affected system. A discrepancy in the parameters similar to those in the past cannot be ruled out. With this AD, a synchronization procedure for pilots is being re-introduced, which prevents the parameter discrepancy arising and thus sustains the automatic engine control.

Actions and Compliance

(e) Within 50 hours time-in-service (TIS), unless already done, either insert the following procedure by making pen and ink changes to the Rotorcraft Flight Manual (RFM) or by inserting a copy of this AD into the Limitations Section of the RFM.

“SPECIAL INFORMATION FOR OEI/AUTOROTATION TRAINING AND APPROACH/LANDING PREPARATION

In order to prevent a malfunction, which could lead to a FADEC FAIL indication, the following procedure is mandatory:

The procedure shown below must be performed while in a steady flight condition and at a safe altitude:

—Before initiation of every approach (with or without landing)

—During training of OEI or Autorotation before every switch-over to IDLE

CAUTION: DURING THE RESET PROCEDURE DESCRIBED IN THE FOLLOWING, NO INPUTS ARE TO BE MADE TO THE COLLECTIVE LEVER OR TO THE TWIST GRIP FOR MANUAL ENGINE CONTROL, SINCE THIS CAN LEAD TO AN INEFFECTIVE SYNCHRONIZATION.

The reset procedure is identical for each of two systems and is to be applied for both engines, one after the other.

Procedure

1. ENG MODE SEL switch—Set from NORM TO MAN

After illumination of the ENG MANUAL caution:

2. ENG MODE SEL switch—Set from MAN to NORM: ENG MANUAL caution must go off

Repeat procedure for second engine.”

Differences Between This FAA AD and the MCAI AD

(f) We use a 50-hour TIS compliance time rather than before further flight. Also, the MCAI AD states to follow the ASB and insert pages into the RFM. We did not follow the ASB, which requires the RFM information to be filed in the Section 4, Normal Procedures, of the RFM. To make compliance with the information mandatory, we are requiring that it be inserted into the Section 2, Limitations Section of the RFM.

Other Information

(g) Alternative Methods of Compliance (AMOCs): The Manager, Safety Management Group, Rotorcraft Directorate, FAA, ATTN: Eric Haight, Aviation Safety Engineer, Regulations and Guidance Group, 2601 Meacham Blvd., Fort Worth, Texas 76137, telephone (817) 222-5204, fax (817) 222-5961, has the authority to approve AMOCs, if requested, for this AD using the procedures found in 14 CFR 39.19.

Related Information

(h) MCAI AD 2002-333, dated September 16, 2002, contains related information.

Air Transport Association of America (ATA) Tracking Code

(i) The ATA Code is 7600: Engine Controls.

Issued in Fort Worth, Texas on April 28, 2011.
Scott A. Horn,
Acting Manager, Rotorcraft Directorate, Aircraft Certification Service.

[FR Doc. 2011-11882 Filed 5-12-11; 8:45 am]

BILLING CODE 4910-13-P